DEPARTMENT OF DEFENSE

Office of the Secretary

Response Systems To Adult Sexual Assault Crimes Panel; Notice of Federal Advisory Committee Meeting

AGENCY: Department of Defense.

ACTION: Notice of meeting.

SUMMARY: On May 28, 2014, the Department of Defense published a notice titled Response Systems to Adult Sexual Assault Crimes Panel; Notice of Federal Advisory Committee Meeting (79 FR 30566-30567). Subsequent to the publication of that notice, the location of the meeting changed. This notice amends the location.

DATES: A meeting of the Response Systems to Adult Sexual Assault Crimes Panel (“the Panel”) will be held June 16, 2014 from 9:00 a.m. to 5:00 p.m.

ADDRESSES: U.S. District Court for the Southern District of New York, Marshall Courthouse, Courtroom 506, 40 Centre Street (40 Foley Square), New York, NY 10007.

FOR FURTHER INFORMATION CONTACT: Ms. Shannon Green, Response Systems Panel, One Liberty Center, 875 N. Randolph Street, Suite 150, Arlington, VA 22203. Email: Shannon.l.green8.civ@mail.mil. Phone: (703) 693-3837. Web site: http://responsesystemspanel.whs.mil.

SUPPLEMENTARY INFORMATION: Due to a change in the location of the scheduled meeting on June 16, 2014, of the Response Systems Adult Sexual Assault Crimes Panel, the requirements of 41 CFR 102-3.150(a) were not met. Accordingly, the Advisory Committee Management Officer for the Department of Defense, pursuant to 41 CFR 102-3.150(b), waives the 15-calendar day notification requirement.

The location of the June 16, 2014 meeting is revised to read as set forth in the ADDRESSES section. All other information in the Federal Register notice of May 28, 2014 (79 FR 30566-30567) remains the same.

Dated: June 4, 2014.
Aaron Siegel,
Alternate OSD Federal Register Liaison Officer, Department of Defense.

[FR Doc. 2014-13430 Filed 6-9-14; 8:45 am]

BILLING CODE 5001-06-P